DEPARTMENT OF ENERGY

Federal Energy Regulatory Commission

Combined Notice of Filings #1

Take notice that the Commission received the following electric rate filings:

Docket Numbers: ER18-1182-012.

Applicants: System Energy Resources, Inc.

Description: Compliance filing: SERI Compliance (ER18-1182 et al.) to be effective 9/1/2024.

Filed Date: 1/23/25.

Accession Number: 20250123-5086.

Comment Date: 5 p.m. ET 2/13/25.

Docket Numbers: ER22-2293-002.

Applicants: Dominion Energy South Carolina, Inc.

Description: Compliance filing: Order No 881 2nd Compliance Filing Amend to be effective 7/12/2025.

Filed Date: 1/23/25.

Accession Number: 20250123-5022.

Comment Date: 5 p.m. ET 2/13/25.

Docket Numbers: ER25-12-001.

Applicants: Dynegy Energy Services Mid-Atlantic, LLC.

Description: Compliance filing: NCIS for Q4 2024 and Rev. MBR Tariff to be effective 3/25/2025.

Filed Date: 1/23/25.

Accession Number: 20250123-5029.

Comment Date: 5 p.m. ET 2/13/25.

Docket Numbers: ER25-1024-000.

Applicants: PJM Interconnection, L.L.C.

Description: § 205(d) Rate Filing: Original GIA, SA No. 7468; Project Identifier No. AE2-234 to be effective 12/30/2024.

Filed Date: 1/23/25.

Accession Number: 20250123-5021.

Comment Date: 5 p.m. ET 2/13/25.

Docket Numbers: ER25-1025-000.

Applicants: Mid-Atlantic Interstate Transmission, LLC.

Description: § 205(d) Rate Filing: Notice of Cancellation of SA No. 7221 to be effective 1/13/2025.

Filed Date: 1/23/25.

Accession Number: 20250123-5024.

Comment Date: 5 p.m. ET 2/13/25.

Docket Numbers: ER25-1026-000.

Applicants: Southwest Power Pool, Inc.

Description: § 205(d) Rate Filing: 2881R19 City of Chanute, KS NITSA NOA to be effective 1/1/2025.

Filed Date: 1/23/25.

Accession Number: 20250123-5032.

Comment Date: 5 p.m. ET 2/13/25.

Docket Numbers: ER25-1027-000.

Applicants: Southwest Power Pool, Inc.

Description: § 205(d) Rate Filing: 1976R15 FreeState Electric Cooperative, Inc. NITSA and NOA to be effective 1/1/2025.

Filed Date: 1/23/25.

Accession Number: 20250123-5039.

Comment Date: 5 p.m. ET 2/13/25.

Docket Numbers: ER25-1028-000.

Applicants: Merrill Lynch Commodities, Inc.

Description: Compliance filing: Compliance filing 2024-2025 to be effective 12/23/2024.

Filed Date: 1/23/25.

Accession Number: 20250123-5044.

Comment Date: 5 p.m. ET 2/13/25.

Docket Numbers: ER25-1029-000.

Applicants: Southwest Power Pool, Inc.

Description: § 205(d) Rate Filing: 1636R31 Kansas Electric Power Cooperative, Inc. NITSA and NOA to be effective 1/1/2025.

Filed Date: 1/23/25.

Accession Number: 20250123-5070.

Comment Date: 5 p.m. ET 2/13/25.

Docket Numbers: ER25-1030-000.

Applicants: Alabama Power Company, Georgia Power Company, Mississippi Power Company.

Description: Tariff Amendment: Alabama Power Company submits tariff filing per 35.15: Solarpack Development (Black Prairie Solar) LGIA Termination Filing to be effective 1/23/2025.

Filed Date: 1/23/25.

Accession Number: 20250123-5071.

Comment Date: 5 p.m. ET 2/13/25.

Docket Numbers: ER25-1031-000.

Applicants: Alabama Power Company, Georgia Power Company, Mississippi Power Company.

Description: Tariff Amendment: Alabama Power Company submits tariff filing per 35.15: Minkar Energy Project (Minkar Solar) LGIA Termination Filing to be effective 1/23/2025.

Filed Date: 1/23/25.

Accession Number: 20250123-5074.

Comment Date: 5 p.m. ET 2/13/25.

Docket Numbers: ER25-1032-000.

Applicants: PJM Interconnection, L.L.C.

Description: § 205(d) Rate Filing: Designated Entity Agreement, SA No. 7478 between PJM and PSE&G to be effective 12/24/2024.

Filed Date: 1/23/25.

Accession Number: 20250123-5088.

Comment Date: 5 p.m. ET 2/13/25.

Docket Numbers: ER25-1033-000.

Applicants: Southwest Power Pool, Inc.

Description: § 205(d) Rate Filing: 2198R37 Kansas Power Pool NITSA NOA to be effective 1/1/2025.

Filed Date: 1/23/25.

Accession Number: 20250123-5103.

Comment Date: 5 p.m. ET 2/13/25.

Docket Numbers: ER25-1034-000.

Applicants: New York State Electric & Gas Corporation, New York Independent System Operator, Inc.

Description: § 205(d) Rate Filing: New York Independent System Operator, Inc. submits tariff filing per 35.13(a)(2)(iii: NYISO-NYSEG Joint 205: Amended EPCA Alle-Catt Wind Energy SA2794 to be effective 1/8/2025.

Filed Date: 1/23/25.

Accession Number: 20250123-5126.

Comment Date: 5 p.m. ET 2/13/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 23, 2025.
Carlos D. Clay,
Deputy Secretary.

[FR Doc. 2025-01873 Filed 1-28-25; 8:45 am]

BILLING CODE 6717-01-P